Title 3—

The President

Proclamation 7967 of December 1, 2005

World AIDS Day, 2005

By the President of the United States of America

A Proclamation

On World AIDS Day, we remember those who have lost their lives to AIDS, and we recommit ourselves to fighting and preventing HIV/AIDS and to comforting those infected and their loved ones.

The United States is working with its partners around the world to turn the tide against HIV/AIDS. In May 2003, we committed $15 billion over 5 years to support treatment, prevention, and care. This plan is designed to support and strengthen the AIDS-fighting strategies of many nations, including 15 affected countries in Africa, Asia, and the Caribbean. Approximately 400,000 men, women, and children in sub-Saharan Africa have received life-saving treatment supported through this program. This is a remarkable improvement from 2 years ago, when just 50,000 people in sub-Saharan Africa were receiving treatment for HIV/AIDS. The plan focuses on the ABC prevention message—Abstain, Be faithful, and use Condoms—with abstinence being the only sure way to prevent the sexual transmission of HIV/AIDS. We are also working with faith-based and community organizations and local leaders around the world to expand testing facilities, upgrade clinics and hospitals, and train and support medical personnel.

Here at home, more than 1 million people suffer from HIV/AIDS. To stop the spread of this virus, we are focusing extraordinary Federal efforts and resources to increase routine voluntary testing, improve access to life-extending care, and develop a vaccine. We are also grateful for the work of faith-based and community programs whose efforts in these areas are helping to improve the lives of our citizens.

On World AIDS Day, we recognize the effect of HIV/AIDS and renew our commitment to defeat this pandemic. Americans believe that every life matters and every person counts. The United States will continue to spread a vision of hope as we stand with people from around the world to face the challenges of HIV/AIDS with courage and determination. Together, we can build a better future for all.

NOW, THEREFORE, I, GEORGE W. BUSH, President of the United States of America, by virtue of the authority vested in me by the Constitution and laws of the United States, do hereby proclaim December 1, 2005, as World AIDS Day. I urge the Governors of the States and the Commonwealth of Puerto Rico, officials of the other territories subject to the jurisdiction of the United States, and the American people to join me in appropriate activities to remember those who have lost their lives to this deadly disease and to comfort and support those living with HIV/AIDS.

IN WITNESS WHEREOF, I have hereunto set my hand this first day of December, in the year of our Lord two thousand five, and of the Independence of the United States of America the two hundred and thirtieth.

B

[FR Doc. 05-23705

Filed 12-2-05; 10:25 am]

Billing code 3195-01-P